DEPARTMENT OF COMMERCE

International Trade Administration

A-570-886

Polyethylene Retail Carrier Bags from the People's Republic of China: Amended Final Results of Antidumping Duty Administrative Review

AGENCY: Import Administration, International Trade Administration, Department of Commerce.

SUMMARY: On March 19, 2007, the Department of Commerce (the “Department”) published Polyethylene Retail Carrier Bags from the People's Republic of China: Final Results of Antidumping Duty Administrative Review, 72 FR 12762 (March 19, 2007) (“Final Results”), covering the period of review (“POR”) January 26, 2004, through July 31, 2005. We are amending the Final Results to correct ministerial errors made in the calculation of the dumping margins for Crown Polyethylene Products (International) Ltd. (“Crown”) and High Den Enterprises Ltd. (“High Den”), pursuant to section 751(h) of the Tariff Act of 1930, as amended (“the Act”).

EFFECTIVE DATE: May 9, 2007.

FOR FURTHER INFORMATION CONTACT: Laurel LaCivita or Charles Riggle, AD/CVD Operations, Office 8, Import Administration, International Trade Administration, U.S. Department of Commerce, 14th Street and Constitution Avenue NW, Washington, DC 20230; telephone: (202) 482-4243 or (202) 482-0650, respectively.

SUPPLEMENTARY INFORMATION:

Scope of Order

The merchandise subject to this antidumping duty order is polyethylene retail carrier bags (“PRCBs”) which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0085 of the Harmonized Tariff Schedule of the United States (“HTSUS”).¹ This subheading may also cover products that are outside the scope of this order. Furthermore, although the HTSUS subheading is provided for convenience and customs purposes, our written description of the scope of this order is dispositive.

¹ Until July 1, 2005, these products were classifiable under HTSUS 3923.21.0090 (Sacks and bags of polymers of ethylene, other). See Harmonized Tariff Schedule of the United States (2005)- Supplement 1 Annotated for Statistical Reporting Purposes Change Record - 17th Edition - Supplement 1, available at http://hotdocs.usitc.gov/docs/tata/hts/bychapter/0510/0510chgs.pdf.

Background

On March 19, 2007, the Department published the Final Results in the Federal Register. On March 20, 2007, we received ministerial error allegations from Crown and High Den, respectively. On March 26, 2007, we received rebuttal comments from the Polyethylene Retail Carrier Bag Committee and its individual members, Hilex Poly Co., LLC and Superbag Corporation, domestic interested parties and petitioners in the underlying investigation. A ministerial error as defined in section 751(h) of the Act (see also 19 CFR 351.224(f)), includes “errors in addition, subtraction, or other arithmetic function, clerical errors resulting from inaccurate copying, duplication, or the like, and any other type of unintentional error which the {Secretary} considers ministerial.” After analyzing the comments by interested parties, we have determined, in accordance with section 751(h) of the Act that ministerial errors existed in the calculations for the Final Results with respect to Crown and High Den. For a detailed explanation of these issues, see the memorandum to the file from Laurel LaCivita, Senior Case Analyst, through Charles Riggle, Program Manager, “Analysis for the Amended Final Results of the 2004-2005 Administrative Review of Polyethylene Retail Carrier Bags from the People's Republic of China: Crown Polyethylene Products (International) Ltd.,” dated April 18, 2007, and memorandum to the file from Laurel LaCivita, Senior Case Analyst, through Charles Riggle, Program Manager, “Analysis for the Amended Final Results of the 2004-2005 Administrative Review of Polyethylene Retail Carrier Bags from the People's Republic of China: High Den Enterprises Ltd. (“High Den”)” dated April 18, 2007. Both memoranda are on file in the Central Records Unit, room B-099 in the main building of the Department of Commerce.

Therefore, in accordance with section 751(h) of the Act and 19 CFR 351.224(e), we are amending the Final Results of the administrative review of PRCBs from the PRC for Crown and High Den.

Amended Final Results

The revised weighted-average dumping margins for Crown and High Den are detailed in the chart below.

Manufacturer/Exporter | Final Results of Review (Percent) | Amended Final Results of Review (Percent)
Crown | 7.68 | 7.65
High Den | 14.01 | 11.99

The Department shall determine, and U.S. Customs and Border Protection shall assess, antidumping duties on all appropriate entries based on the amended final results. For details on the assessment of antidumping duties on all appropriate entries, see Final Results, 72 FR 12762, 12764.

These amended final results are published in accordance with sections 751(h) and 777(i)(1) of the Act.

Dated: April 30, 2007.
David M. Spooner,
Assistant Secretary for Import Administration.

[FR Doc. E7-8904 Filed 5-8-07; 8:45 am]

BILLING CODE 3510-DS-S